SMALL BUSINESS ADMINISTRATION

13 CFR Part 121

Small Business Size Regulations, Small Business Innovation Research (SBIR) Program and Small Business Technology Transfer (STTR) Program

AGENCY: U.S. Small Business Administration.

ACTION: Notice of Webinar and Roundtable Meetings.

SUMMARY: The U.S. Small Business Administration (SBA) announces that it is holding a public Webinar and Roundtable Meetings regarding its proposal to amend its regulations governing size and eligibility for the Small Business Innovation Research (SBIR) and Small Business Technology Transfer (STTR) Programs. The proposed rule would implement provisions of the National Defense Authorization Act for Fiscal Year 2012. The proposed rule addresses ownership, control and affiliation for participants in the SBIR and STTR Programs. This includes participants that are majority owned by multiple venture capital operating companies, private equity firms or hedge funds. The Webinar and Roundtable Meetings will provide a basic overview of and respond to questions regarding the proposed rule. The Webinar and Roundtable Meetings will be summarized and become part of the administrative record.

DATES: The Webinar is scheduled for May 24, 2012, the Roundtable Meetings are scheduled for June 8, 2012, in Washington, DC and June 19, 2012, in Austin, TX. These Roundtable Meetings will be conducted by SBA's Office of Advocacy. For additional information, see Section II.

ADDRESSES: The phone number and corresponding Web address for the Webinar will be provided to participants upon registration.

FOR FURTHER INFORMATION CONTACT: Office of Investment and Innovation at SBIRComments@sba.gov.

SUPPLEMENTARY INFORMATION:

I. Background Information

On May 15, 2012, SBA published a proposed rule to amend its regulations governing size and eligibility for the SBIR and STTR Programs. This proposed rule is an integral part of the implementation of the National Defense Authorization Act for Fiscal Year 2012. The proposed rule may be viewed at http://www.regulations.gov/#!documentDetail;D=SBA-2012-0008-0001.

In order to familiarize the public with the content of the proposed rule, SBA will host a Webinar and Roundtable Meetings. Interested parties may choose to attend the Webinar or the Roundtable Meetings listed in Section II. The Webinar and Roundtable Meetings will be summarized and become part of the administrative record.

II. Webinar and Roundtable Meetings Schedule

| Date and time | Registration closing date
Webinar | May 24, 2012, 3 p.m.-5 p.m. EST | May 23, 2012, 11:59 p.m. EST.
Roundtable Meetings:
Washington, DC | June 8, 2012, 1 p.m.-3 p.m. EST | June 5, 2012, 11:59 p.m. EST.
Austin, TX | June 19, 2012, 10 a.m.-2 p.m. EST | June 14, 2012, 11:59 p.m. EST.

III. Registration

If you are interested in attending the Webinar or the Roundtable Meetings, you must pre-register by the registration closing date by sending an email to SBIRComments@sba.gov. You must include in the subject line the date of the Webinar or Roundtable Meeting for which you wish to participate, and in the body of the email, please provide the following: Participant's Name, Title, Organization Affiliation, Address, Telephone Number, Email Address, and Fax Number. Please also note if you need accommodation because of a disability. You must submit your email by the applicable registration closing date listed in Section II of this notice. Due to technological constraints, participation is limited to 125 registrants for the Webinar. If demand exceeds capacity for the Webinar, SBA may consider holding additional Webinars. SBA will announce any additional Webinars through a Federal Register notice and on its Web site for the SBIR and STTR Programs at www.sbir.gov.

SBA will confirm the registration via email along with instructions for participation. SBA will post any presentation materials associated with the Webinars on the day of the Webinar at www.sbir.gov. Participants are responsible for ensuring their computer systems are compatible with the Webinar software.

If there are specific questions you would like SBA to address during the Webinar or Roundtable Meetings, please send your question(s) to SBA no later than the registration closing date listed in Section II. Because the rule is in the proposed rulemaking stage, SBA will not be able to answer questions that are outside the scope of the proposed rule. All participants are encouraged to submit comments regarding the proposed rule at http://www.regulations.gov/#!documentDetail;D=SBA-2012-0008-0001 or hand delivery/courier to Carl Jordan, Office of Size Standards or Edsel Brown, Assistant Director, Office of Technology, US Small Business Administrator, 409 Third Street SW., Washington, DC 20416.

Sean Greene,
Associate Administrator for Investment and Special Advisor for Innovation.

[FR Doc. 2012-12463 Filed 5-21-12; 8:45 am]

BILLING CODE P